Proclamation 7762 of March 5, 2004

Save Your Vision Week, 2004

By the President of the United States of America

A Proclamation

Millions of Americans enjoy healthy vision. Yet, each year, many of our citizens suffer from vision loss that could have been prevented or reversed with effective detection and appropriate intervention. Commemorating Save Your Vision Week reminds us of the importance of including eye care as part of a regular preventive health routine.

Eating healthy foods, wearing safety glasses, and avoiding the harmful effects of the sun's ultraviolet rays are ways to help to keep our eyes healthy. Regular, comprehensive exams are also important to maintain good vision and eye health. For children, regular eye exams can help parents ensure that their children's vision is developing normally and can identify a problem before it becomes more serious. For adults, eye care professionals can detect glaucoma and eye damage from diabetes in the early stages of progression, thereby preventing further harm. Diabetes can seriously affect vision in addition to general health. An estimated 40 to 45 percent of all people diagnosed with diabetes will develop some degree of diabetic retinopathy, a leading cause of new cases of blindness in working-age Americans that often presents few warning signs and no pain. Other eye diseases such as glaucoma may cause vision damage and eventual blindness without the individual being aware of a problem.

The Department of Health and Human Services is working to identify opportunities to improve the health of all Americans through Healthy People 2010, a national disease prevention plan. This plan includes the Healthy Vision 2010 Initiative, which is addressing many of the challenges posed by the loss or impairment of vision.

The Congress, by joint resolution approved December 30, 1963, as amended (77 Stat. 629; 36 U.S.C. 138), has authorized and requested the President to proclaim the first week in March of each year as “Save Your Vision Week.” During this week, I encourage all Americans to learn more about ways to prevent eye problems for themselves and to help others maintain the precious gift of sight.

NOW, THEREFORE, I, GEORGE W. BUSH, President of the United States of America, do hereby proclaim March 7 through March 13, 2004, as Save Your Vision Week. I urge all Americans to participate by making eye care and eye safety an important part of their lives and to get regular eye examinations. I also encourage eye care professionals, teachers, the media, and all public and private organizations dedicated to preserving eyesight to join in activities that will raise awareness of the measures all citizens can take to protect vision.

IN WITNESS WHEREOF, I have hereunto set my hand this fifth day of March, in the year of our Lord two thousand four, and of the Independence of the United States of America the two hundred and twenty-eighth.

B

[FR Doc. 04-5579

Filed 3-9-04; 8:45 am]

Billing code 3195-01-P